FEDERAL ELECTION COMMISSION

Sunshine Act Meeting

AGENCY: Federal Election Commission.

DATE AND TIME: Thursday, April 12, 2012 at 10 a.m.

PLACE: 999 E Street NW., Washington, DC (Ninth Floor).

STATUS: This Meeting Will be Open to the Public.

ITEMS TO BE DISCUSSED:

Correction and Approval of the Minutes for the Meeting of March 22, 2012.

Draft Advisory Opinion 2012-07: Feinstein for Senate.

Draft Advisory Opinion 2012-08: Repledge.

Draft Advisory Opinion 2012-10: Greenberg Quinlan Rosner Research, Inc.

Draft Advisory Opinion 2012-11: Free Speech.

Management and Administrative Matters.

Individuals who plan to attend and require special assistance, such as sign language interpretation or other reasonable accommodations, should contact Shawn Woodhead Werth, Secretary and Clerk, at (202) 694-1040, at least 72 hours prior to the meeting date.

FOR FURTHER INFORMATION CONTACT: Judith Ingram, Press Officer, Telephone: (202) 694-1220.

Shawn Woodhead Werth,
Secretary and Clerk of the Commission.

[FR Doc. 2012-8595 Filed 4-6-12; 11:15 am]

BILLING CODE 6715-01-P